FEDERAL MARITIME COMMISSION

[Docket No. 02-15]

Notice of Hearing Schedule

The Commission has established the following allotment of time and order of presentation for the hearing scheduled in this proceeding. The hearing will convene at 10 a.m., June 11, 2003, in the Main Hearing Room, Room 100, 800 North Capitol Street, NW., Washington, DC 20573.

Company | Participant(s) | Time allotment (in minutes)
Royal Caribbean Cruises Ltd | John P. Fox, Vice President; Industry Relations, Hopewell H. Darneille III and Michael G. Roberts, Thompson Coburn, LLP | 10
The Passenger Vessel Association | Edmund B. Welch, Legislative Director | 10
Visa U.S.A. Inc | Oliver I. Ireland, Morrison & Foerster, LLP | 10
Discover Financial Services, Inc | Thomas M. Byrne, Sutherland Asbill & Brennan LLP | 10
Norwegian Cruise Line | Robert M. Kritzman, Senior Vice President and General Counsel | 10

Bryant L. VanBrakle,
Secretary.

[FR Doc. 03-14806 Filed 6-10-03; 8:45 am]

BILLING CODE 6730-01-P